ENVIRONMENTAL PROTECTION AGENCY

[FRL-7859-9]

Proposed Administrative Settlement Pursuant to the Comprehensive Environmental Response, Compensation and Liability Act of 1980, as Amended by the Superfund Amendments and Reauthorization Act, Camelot Cleaners West Fargo Superfund Site

AGENCY: Environmental Protection Agency (EPA).

ACTION: Notice; request for public comment.

SUMMARY: Notification is hereby given that the United States Environmental Protection Agency proposes to enter into an Agreement for Recovery of Response Costs (Agreement) relating to the Camelot Cleaners West Fargo Superfund Site located in West Fargo, North Dakota. The proposed Agreement is subject to final approval after the comment period. The Agreement resolves Superfund liability for all response costs under section 107 of the Comprehensive Environmental Response, Compensation and Liability Act (CERCLA) of 1980, as amended, against Camelot Cleaners, Inc., DCI, USA, Inc., and National Dry Cleaners, Inc. The Agreement requires the settling parties to pay EPA $200,000 in twelve monthly installments. If the settling parties refinance their current secured debt within three years after the Agreement becomes final, they will pay EPA half of the savings realized by such refinancing up to an additional $1.3 million. If the setting parties do not refinance their secured debt within three years after the Agreement becomes final they will pay EPA an additional $150,000 in twelve month installments. For thirty (30) days following the date of publication of this notice, EPA will accept written comments relating to the proposed Agreement. The Agency's response to any comments received will be available for public inspection at the Superfund Records Center at the U.S. Environmental Protection Agency, Region VIII, 999 18th Street, Denver, Colorado 80202.

Availability: The proposed Agreement is available for public inspection at the U.S. Environmental Protection Agency, Region VIII, 999 18th Street, Denver, Colorado 80202. A copy of the proposed Agreement may be obtained from Carol Pokorny, Enforcement Specialist, U.S. Environmental Protection Agency, Region VIII, 999 18th Street, Suite 300, 8ENF-RC, Denver, Colorado 80202. Comments should reference the “Camelot Cleaners West Fargo Superfund Site” and should be forwarded to Carol Pokorny, Enforcement Specialist, at the above address.

FOR FURTHER INFORMATION CONTACT: Andrea Madigan, Enforcement Attorney, U.S. Environmental Protection Agency, Region VIII, 999 18th Street, Suite 300, ENF-L Denver, Colorado 80202.

Dated: January 3, 2005.
It is so agreed:
Carol Rushin,
Assistant Regional Administrator, Office of Enforcement, Compliance, and Environmental Justice, Region 8.

[FR Doc. 05-498 Filed 1-10-05; 8:45 am]

BILLING CODE 6560-50-P